DEPARTMENT OF THE INTERIOR

Bureau of Safety and Environmental Enforcement

[Docket ID BSEE-2025-0200; OMB Control Number 1014-0001; EEEE500000 256E1700D2 ET1SF0000.EAQ000]

Agency Information Collection Activities; Oil and Gas Well-Workover Operations

AGENCY: Bureau of Safety and Environmental Enforcement, Interior.

ACTION: Notice of information collection; request for comment.

SUMMARY: In accordance with the Paperwork Reduction Act (PRA) of 1995, the Bureau of Safety and Environmental Enforcement (BSEE, we) proposes to renew an information collection.

DATES: Interested persons are invited to submit comments on or before November 17, 2025.

ADDRESSES: Send your comments on this information collection request (ICR) by either of the following methods listed below:

• Electronically go to http://www.regulations.gov. In the Search box, enter BSEE-2025-0200 then click search. Follow the instructions to submit public comments and view all related materials. We will post all comments.

• Email Kelly.Odom@bsee.gov, fax (703) 787-1775, or mail or hand-carry comments to the Department of the Interior; Bureau of Safety and Environmental Enforcement; Regulations and Standards Branch; ATTN: Kelly Odom; 45600 Woodland Road, Sterling, VA 20166. Please reference Office of Management and Budget (OMB) Control Number 1014-0001 in the subject line of your comments.

FOR FURTHER INFORMATION CONTACT: Kelly Odom by email at Kelly.Odom@bsee.gov or by telephone at (703) 787-1775. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The authority and responsibility to regulate oil and gas well-workover operations has been delegated to BSEE. The regulations at 30 CFR part 250, subpart F, “Oil and Gas Well-Workover Operations,” are the subject of this collection. This request also covers any related notices to lessees and operators that BSEE issues to clarify, supplement, or provide additional guidance on some aspects of the regulations.

BSEE uses the information collected to analyze and evaluate planned well-workover operations to ensure that these operations result in personnel safety and protection of the environment. BSEE will use this evaluation in making decisions to approve, disapprove, or to require modification to the proposed well-workover operations.

Specifically, BSEE uses the information collected to:

• review log entries of crew meetings to verify that safety procedures have been properly reviewed.

• review well-workover procedures relating to hydrogen sulfide (H2S) to ensure the safety of the crew in the event of encountering H2S.

• review well-workover diagrams and procedures to ensure the safety of well-workover operations.

• verify that the crown block safety device is operating and can be expected to function and avoid accidents.

• verify that the blowout preventer equipment is in compliance with the latest well control regulations and American Petroleum Institute Standard 53.

• assure that the well-workover operations are conducted on a well casing that is structurally competent.

Title of Collection: 30 CFR part 250, subpart F, “Oil and Gas Well-Workover Operations.”

OMB Control Number: 1014-0001.

Form Number: None.

Type of Review: Extension of a currently approved collection.

Respondents/Affected Public: Potential respondents include Federal Outer Continental Shelf (OCS) oil, gas, and sulfur lessees and/or operators and holders of pipeline rights-of-way.

Total Estimated Number of Annual Respondents: Currently there are approximately 60 oil and gas drilling and production operators in the OCS. Not all the potential respondents will submit information in any given year, and some may submit multiple times.

Total Estimated Number of Annual Responses: 1,933.

Estimated Completion Time per Response: Varies from 1 hours to 6.5 hours, depending on activity.

Total Estimated Number of Annual Burden Hours: 5,284.

Respondent's Obligation: Responses are mandatory or are to retain/maintain benefits.

Frequency of Collection: Submissions are generally on occasion.

Total Estimated Annual Nonhour Burden Cost: We have identified no non-hour cost burdens associated with this collection of information.

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2025-18051 Filed 9-17-25; 8:45 am]

BILLING CODE 4310-VH-P